DEPARTMENT OF ENERGY

Federal Energy Regulatory Commission

[Docket No. EG03-53-000, et al.]

Reliant Energy Bighorn, LLC, et al.; Electric Rate and Corporate Filings

March 31, 2003.

The following filings have been made with the Commission. The filings are listed in ascending order within each docket classification.

1. Reliant Energy Bighorn, LLC

[Docket No. EG03-53-000]

Take notice that on March 27, 2003, Reliant Energy Bighorn, LLC (Reliant Bighorn) tendered for filing with the Federal Energy Regulatory Commission (Commission) an application for determination of exempt wholesale generator status pursuant to section 32(a)(1) of the Public Utility Holding Company Act (PUHCA).

Comment Date: April 17, 2003.

2. Midwest Independent Transmission

[Docket Nos. ER02-111-007 and ER02-652-004]

Take notice that on March 26, 2003, the Midwest Independent Transmission System Operator, Inc. (Midwest ISO) submitted for filing proposed revisions to Schedule 10 (ISO Cost Recovery Adder) and Schedule 10-A (Alternative Administrative Cost Adder) of the Midwest ISO Open Access Transmission Tariff (OATT), FERC Electric Tariff, Second Revised Volume No. 1, pursuant to Order of the Federal Energy Regulatory Commission, Midwest Independent Transmission System Operator Inc., 102 FERC ¶ 61,193.

Pursuant to the Settlement reached in these proceedings, the Midwest ISO requests an effective date of March 1, 2003.

The Midwest ISO has requested waiver of the service requirements set forth in 18 CFR 385.2010. The Midwest ISO states it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter.

Comment Date: April 16, 2003.

3. American Electric Power Service Corporation

[Docket No. ER02-913-002]

Take notice that on March 27, 2003, the American Electric Power Service Corporation, on behalf of the operating companies of the American Electric Power System (collectively AEP) filed proposed amendments to the Network Integration Transmission Service Agreement originally filed in Docket No. ER02-913-000 on January 30, 2002. AEP states that the proposed amendments are intended to implement a Settlement Agreement also filed by AEP on March 27, 2003.

AEP requests an effective date of January 1, 2002. AEP states that copies of the AEP Companies' filing were served upon the parties to Docket No. ER02-913-000 and State Commissions.

Comment Date: April 17, 2003.

4. Southwestern Electric Power Company

[Docket No. ER02-2313-001]

Take notice that on March 27, 2003, Southwestern Electric Power Company (SWEPCO) submitted for filing, in compliance with the requirements of the Commission's February 25, 2003, Letter Order in Docket No. ER02-2313-000, revised sheets to its First Revised FERC Rate Schedule No. 72.

SWEPCO states that a copy of this filing has been served on each person designated on the official service list compiled by the Secretary in this proceeding.

Comment Date: April 17, 2003.

5. ISO New England Inc.

[Docket No. ER02-2330-012]

Take notice that on March 25, 2003, ISO New England Inc., (the ISO) tendered an Errata Filing to correct a Compliance Report filed on March 20, 2003. The ISO states that copies of the Errata Filing have been served upon the parties in Docket No. ER02-2330-012.

Comment Date: April 10, 2003.

6. Southern Company Services, Inc.

[Docket No. ER03-379-001]

Take notice that on March 27, 2003, Southern Company Services, Inc. (SCS), acting on behalf of Alabama Power Company, Georgia Power Company, Gulf Power Company, Mississippi Power Company, and Savannah Electric and Power Company (collectively, Southern Companies), resubmitted First Revised Service Agreement No. 451 for long-term firm point-to-point transmission service under the Open Access Transmission Tariff of Southern Companies (FERC Electric Tariff, Fourth Revised Volume No. 5) (Tariff) in compliance with the Commission's Order in this proceeding dated February 25, 2003.

Comment Date: April 17, 2003.

7. Southern California Edison Company

[Docket No. ER03-549-001]

Take notice that on March 27, 2003, Southern California Edison Company (SCE) tendered for filing with the Federal Energy Regulatory Commission (Commission) an amendment to its February 20, 2003 filing by submitting revised tariff sheets to the unexecuted wholesale distribution service agreements of SCE.

Comment Date: April 10, 2003.

8. Jersey Central Power & Light Company

[Docket No. ER03-650-001]

Take notice that on March 27, 2003, Jersey Central Power & Light Company (Jersey Central) tendered for filing an amendment to the Interconnection Agreement between Jersey Central and Atlantic City Electric Company (Atlantic City), which corrects the effective date listed on the agreement.

Jersey Central states that a copy of this filing has been served upon the service list maintained by the Secretary for this proceeding, the New Jersey Board of Public Utilities and Atlantic City.

Comment Date: April 15, 2003.

9. Kansas Gas & Electric Company

[Docket ER03-652-000]

Take notice that on March 27, 2003, Kansas Gas & Electric Company (KGE) (d/b/a Westar Energy) tendered for filing a change in its Federal Power Commission Electric Service Tariff No. 93. KGE states that the change is to reflect the amount of transmission capacity requirements required by Westar Energy, Inc., (WE) under Service Schedule M to FPC Rate Schedule No. 93 for the period from June 1, 2003 through May 31, 2004. KGE requests an effective date of June 1, 2003.

KGE states that notice of the filing has been served upon the Kansas Corporation Commission.

Comment Date: April 17, 2003.

10. LMP Capital, LLC

[Docket No. ER03-653-000]

Take notice that on March 27, 2003, LMP Capital, LLC (LMP Capital) petitioned the Federal Energy Regulatory Commission (Commission) for acceptance of LMP Capital's Rate Schedule FERC No. 1; the granting of certain blanket approvals, including the authority to sell electricity at market-based rates; and the waiver of certain Commission regulations.

LMP Capital intends to engage in wholesale electric power and energy purchases and sales as a marketer. LMP Capital states that it is not in the business of generating or transmitting electric power. LMP Capital states that it is an independent electricity marketer with a sole purpose of buying and selling electricity in the wholesale electricity market.

Comment Date: April 17, 2003.

11. DB Energy Trading LLC

[Docket No. ER03-657-000]

Take notice that on March 27, 2003, DB Energy Trading LLC (DB Energy) tendered for filing an application for an order accepting its rate schedule to permit sales of power and capacity at market-based rates and granting certain waivers and blanket approvals. DB Energy requests waiver of the 60-day prior notice rule and requests that its rate schedule become effective April 1, 2003.

Comment Date: April 17, 2003.

12. Black Rock Group, LLC

[Docket No. ER03-658-000]

Take notice that on March 27, Black Rock Group, LLC (Black Rock) petitioned the Federal Energy Regulatory Commission (Commission) for acceptance of Black Rock Rate Schedule FERC No. 1; the granting of certain blanket approvals, including the authority to sell electricity at market-based rates; and the waiver of certain Commission regulations.

Black Rock states that it intends to engage in wholesale electric power and energy purchases and sales as a marketer. Black Rock states that it is not in the business of generating or transmitting electric power. Black Rock also states that it is a limited liability company in Nebraska with no current affiliates or subsidiaries.

Comment Date: April 17, 2003.

13. American Electric Power Service Corporation

[Docket No. ER03-659-000]

Take notice that on March 27, 2003, the American Electric Power Service Corporation (AEPSC) tendered for filing an executed Interconnection and Operation Agreement between Ohio Power Company and Lawrence Energy Center LLC (First Revision to Service Agreement 433). AEPSC states that the agreement is pursuant to the AEP Companies' Open Access Transmission Service Tariff (OATT) that has been designated as the Operating Companies of the American Electric Power System FERC Electric Tariff Third Revised Volume No. 6, effective July 31, 2001. AEPSC requests an effective date of May 25, 2003.

AEPSC states that a copy of the filing was served upon Lawrence Energy Center and the Public Utilities Commission of Ohio.

Comment Date: April 17, 2003.

14. American Electric Power Service Corporation

[Docket No. ER03-660-000]

Take notice that on March 27, 2003, the American Electric Power Service Corporation (AEPSC) tendered for filing an executed Interconnection and Operation Agreement between Ohio Power Company and Lawrence Energy Center LLC (First Revision to Service Agreement 516). AEPSC states that the agreement is pursuant to the AEP Companies' Open Access Transmission Service Tariff (OATT) that has been designated as the Operating Companies of the American Electric Power System FERC Electric Tariff Third Revised Volume No. 6, effective July 31, 2001. AEP requests an effective date of May 25, 2003.

AEPSC states that a copy of the filing was served upon Lawrence Energy Center and the Public Utilities Commission of Ohio.

Comment Date: April 17, 2003.

15. Indianapolis Power & Light Company

[Docket No. ER03-661-000]

Take notice that on March 27, 2003, Indianapolis Power & Light Company (IPL), tendered for filing with the Federal Energy Regulatory Commission (Commission) the Modification to the Interconnection Agreement, dated December 2, 1968, between IPL and the Southern Indiana Gas & Electric Company (SIGECO) and the restated Interconnection Agreement in conformance with Order No. 614.

IPL requests an effective date for the tendered Modification of sixty (60) days from the date of filing. IPL states that a copy of the filing was served upon SIGECO.

Comment Date: April 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-8762 Filed 4-9-03; 8:45 am]

BILLING CODE 6717-01-P